NUCLEAR REGULATORY COMMISSION

[Docket No. 50-341; NRC-2020-0110]

Issuance of Exemption in Response to COVID-19 Public Health Emergency

AGENCY: Nuclear Regulatory Commission.

ACTION: Exemption; issuance.

SUMMARY: The U.S. Nuclear Regulatory Commission (NRC) issued one exemption in June 2021 in response to a request from one licensee for relief due to the coronavirus 2019 disease (COVID-19) public health emergency (PHE). The exemption affords the licensee temporary relief from certain requirements under NRC regulations.

DATES: On June 17, 2021, the NRC granted one exemption in response to a request submitted by one licensee on May 17, 2021.

ADDRESSES: Please refer to Docket ID NRC-2020-0110 when contacting the NRC about the availability of information regarding this document. You may obtain publicly available information related to this document using any of the following methods:

• Federal Rulemaking website: Go to https://www.regulations.gov and search for Docket ID NRC-2020-0110. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request for copies of documents to the PDR via email at pdr.resource@nrc.gov or call 1-800-397-4209 or 301-415-4737, between 8:00 a.m. and 4:00 p.m. (ET), Monday through Friday, except Federal holidays.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

On June 17, 2021, the NRC granted one exemption in response to a request submitted by one licensee dated May 17, 2021. The exemption temporarily allows the licensee to deviate from certain requirements of chapter I of title 10 of the Code of Federal Regulations (10 CFR), appendix E, “Emergency Planning and Preparedness for Production and Utilization Facilities,” section IV.F., “Training.”

The exemption grants DTE Electric Company (for Fermi, Unit 2), a schedular exemption from the offsite biennial emergency preparedness exercise requirement, allowing it to postpone the calendar year 2020 full-participation biennial emergency preparedness (EP) exercise until the end of calendar year 2021. The exemption affords this licensee temporary relief from the requirements of 10 CFR part 50, appendix E, regarding offsite response organization (ORO) participation in the biennial emergency preparedness exercise. The exemption will not adversely affect the emergency response capability of the facility because the licensee has conducted numerous drills, exercises, and other training activities that have exercised the licensee's emergency response strategies since the last evaluated biennial emergency preparedness exercise and that State, county and local OROs have participated therein.

The table in this notice provides transparency regarding the number and type of exemptions the NRC has issued. Additionally, the NRC publishes tables of approved regulatory actions related to the COVID-19 PHE on its public website at https://www.nrc.gov/about-nrc/covid-19/reactors/licensing-actions.html.

II. Availability of Documents

The table in this notice provides the facility name, docket number, document description, and ADAMS accession number for the exemption issued. Additional details on the exemption issued, including the exemption request submitted by the licensee and the NRC's decision, are provided in the exemption approval listed in the table in this notice. For additional directions on accessing information in ADAMS, see the ADDRESSES section of this document.

Fermi, Unit 2
[Docket No. 50-341]
Document Description | ADAMS Accession No.
Fermi, Unit 2—Request for Exemption from 10 CFR part 50, appendix E, Biennial Emergency Preparedness Exercise Requirements due to the COVID-19 Pandemic, dated May 17, 2021 | ML21137A234
Fermi, Unit 2—Temporary Exemption from Biennial Emergency Preparedness Exercise Frequency Requirements of 10 CFR part 50, appendix E, sections IV.F.2.B and IV.F.2.C (EPID L-2021-LLE-0029 [COVID-19]), dated June 17, 2021 | ML21159A054

Dated: August 6, 2021.
For the Nuclear Regulatory Commission.
James G. Danna,
Chief, Plant Licensing Branch I, Division of Operating Reactor Licensing, Office of Nuclear Reactor Regulation.

[FR Doc. 2021-17105 Filed 8-10-21; 8:45 am]

BILLING CODE 7590-01-P